DEPARTMENT OF JUSTICE

[OMB Number 1121-0030]

Agency Information Collection Activities; Proposed eCollection eComments Requested; Reinstatement of a Previously Approved Collection; Capital Punishment Report of Inmates Under Sentence of Death

AGENCY: Bureau of Justice Statistics, Department of Justice.

ACTION: 60-Day notice.

SUMMARY: The Bureau of Justice Statistics, Department of Justice (DOJ) will be submitting the following information collection request to the Office of Management and Budget (OMB) for review and approval in accordance with the Paperwork Reduction Act of 1995.

DATES: Comments are encouraged and will be accepted for 60 days until April 15, 2024.

FOR FURTHER INFORMATION CONTACT: If you have additional comments especially on the estimated public burden or associated response time, suggestions, or need a copy of the proposed information collection instrument with instructions or additional information, please contact Tracy L. Snell, Statistician, Bureau of Justice Statistics, 810 Seventh St. NW, Washington, DC 20531 (email: Tracy.L.Snell@usdoj.gov or telephone: 202-598-1660).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: Capital punishment information is collected by the Bureau of Justice Statistics (BJS) annually as part of the National Prisoner Statistics data series (NPS-8). These establishment surveys provide BJS with the capacity to report annually on changes in the size and composition of persons under State or Federal sentence of death and changes to the laws regulating the imposition and implementation of death sentences in the United States. The NPS-8 covers all persons held in a State or Federal correctional facility under sentence of death at any time during the calendar year. The coverage includes capital prisoners transferred from death row to non-correctional institutions, such as mental hospitals, and prisoners who may have escaped custody. Excluded are capital prisoners who for any reason remain in local correctional institutions outside the jurisdiction of State or Federal correctional authorities from whom data are collected for this series. NPS-8 also excludes persons who were convicted and sentenced to death under the Uniform Code of Military Justice. Information such as statutory, demographic, and criminal history data collected through NPS-8 is not attainable from any other single data source.

Overview of This Information Collection

1. Type of Information Collection: Reinstatement of a previously approved collection.

2. The Title of the Form/Collection: Capital Punishment Report of Inmates Under Sentence of Death.

3. The agency form number, if any, and the applicable component of the Department sponsoring the collection: The Capital Punishment Report of Inmates Under Sentence of Death (NPS-8) contains four forms: NPS-8 (Report of Inmates Under Sentence of Death; NPS-8A (Update Report of Inmates Under Sentence of Death); NPS-8B (Status of Death Penalty Statutes—No Statute in Force); and NPS-8C (Status of Death Penalty Statutes—Statute in Force). The applicable component within the Department of Justice is the Bureau of Justice Statistics, in the Office of Justice Programs.

4. Affected public who will be asked or required to respond, as well as the obligation to respond: Affected Public—staff from State departments of correction, offices of State attorneys general, the Federal Bureau of Prisons, and the U.S. Attorney for the District of Columbia. The obligation to respond is voluntary.

5. An estimate of the total number of respondents and the amount of time estimated for an average respondent to respond: The NPS-8 will collect data from an estimated 85 respondents from State departments of correction, the Federal Bureau of Prisons, State Attorneys General, and the U.S. Attorney for the District of Columbia.

For each data collection cycle, we estimate an average burden of 30 minutes for the NPA-8, 30 minutes for the NPS-8A, 15 minutes for the NPS-8B, and 15 minutes to complete the NPS-8C. We estimate that data quality follow-up is needed for 50% of NPS-8 forms (10) and 5% of NPS-8A forms (124) and will run an average of 15 minutes for each response. We estimate a 10-minute follow-up for 10% (5) of NPS-8B and NPS-8C respondents.

6. An estimate of the total annual burden (in hours) associated with the collection: There are approximately 1,292 total annual burden hours for this collection.

7. An estimate of the total annual cost burden associated with the collection, if applicable: $41,596.

Total Burden Hours
Form | # of respondents | Freq. | Total annual resp. | Time per survey (mins) | Follow-up resp. | Time for follow-up (mins) | Total time (mins) | Total annual burden (hrs)
NPS-8 | 33 | 1 | 19 | 30 | 10 | 15 | 720 | 12 (720 min/60 min).
NPS-8A | 33 | 1 | 2,469 | 30 | 124 | 15 | 75,930 | 1,266 (75930 min/60 min).
NPS-8B/8C | 52 | 1 | 52 | 15 | 5 | 10 | 830 | 14 (830 min/60 min).
Unduplicated Totals | 85 |  | 2,540 |  |  |  |  | 1,292.

If additional information is required contact: Darwin Arceo, Department Clearance Officer, United States Department of Justice, Justice Management Division, Policy and Planning Staff, Two Constitution Square, 145 N Street NE, 4W-218, Washington, DC.

Dated: February 8, 2024.
Darwin Arceo,
Department Clearance Officer for PRA, U.S. Department of Justice.

[FR Doc. 2024-02924 Filed 2-12-24; 8:45 am]

BILLING CODE 4410-18-P